DEPARTMENT OF TRANSPORTATION

Maritime Administration

46 CFR Part 296

[Docket No. MARAD-2004-18489]

RIN 2133-AB62

Maritime Security Program

Correction

Rule document 04-19322 was inadvertently published in the Proposed Rules section in the Issue of Tuesday, August 24, 2004, appearing on page 51987. It should have appeared in the Rules and Regulations section

[FR Doc. C4-19322 Filed 9-7-04; 8:45 am]

BILLING CODE 1505-01-D